DEPARTMENT OF THE INTERIOR

Bureau of Land Management

[ID-957-1420-BJ]

Idaho: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho 83709-1657.

SUPPLEMENTARY INFORMATION: These surveys were executed at the request of the Bureau of Land Management to meet certain administrative and management purposes. The lands surveyed are:

The plat representing the dependent resurvey of a portion of the west boundary, a portion of the north boundary, and a portion of the subdivisional lines, and the subdivision of section 6, and a metes-and-bounds survey in section 6, in T. 9 S., R. 19 E., Boise Meridian, Idaho, was accepted September 15, 2005.

The plat representing the dependent resurvey of a portion of the subdivisional lines, and the subdivision of section 28, and the metes-and-bounds survey of lot 1, section 28, in T. 19 N., R. 21 E., Boise Meridian, Idaho, was accepted October 3, 2005.

The plat representing the dependent resurvey of a portion of the subdivisional lines, and the subdivision of sections 8 and 17, in T. 23 N., R. 22 E., Boise Meridian, Idaho, was accepted October 3, 2005.

The plat representing the dependent resurvey of portions of the Sixth Auxiliary Meridian East (west boundary), and the subdivisional lines, and the subdivision of sections 7, 8, 18, 19, 20, and 21, in T. 15 N., R. 26 E., Boise Meridian, Idaho, was accepted October 4, 2005.

The plat representing the dependent resurvey of portions of the east boundary, the subdivisional lines, and the subdivision of section 25, and the metes-and-bounds survey of lots 4 and 6 in section 25, in T. 16 N., R. 20 E., Boise Meridian, Idaho, was accepted October 4, 2005.

The plat representing the corrective dependent resurvey of a portion of the south boundary, a portion of the subdivisional lines, and the subdivision of section 32, and the dependent resurvey of a portion of the subdivisional lines, in T. 11 S., R. 27 E., Boise Meridian, Idaho, was accepted October 26, 2005.

These surveys were executed at the request of the Bureau of Indian Affairs to meet certain administrative and management purposes. The lands surveyed are:

The plat representing the dependent resurvey of portions of the west boundary, the subdivisional lines and the subdivision of sections 9, 16, 19, 31, and 32, and the additional subdivision of sections 9, 16, 19, 31, and 32, in T. 34 N., R. 1 W., Boise Meridian, Idaho, was accepted October 6, 2005.

The plat representing the dependent resurvey of portions of the south boundary, the subdivisional lines, and the subdivision of sections 24, 25, 26, 27, 33, and 34, and the additional subdivision of sections 24, 25, 26, 27, 33, and 34, and the surveys of lot 33 in section 26, and lots 33, 34, and 35 in section 33, in T. 34 N., R. 2 W., Boise Meridian, Idaho, was accepted October 6, 2005.

This survey was executed at the request of the Bureau of Reclamation to meet certain administrative and management purposes. The lands surveyed are:

The plat representing the dependent resurvey of a portion of the subdivisional lines, and a portion of certain tracts and a metes-and-bounds survey in section 9, in T. 9 S., R. 21 E., Boise Meridian, Idaho, was accepted September 12, 2005.

Summary: The Bureau of Land Management (BLM) will file the plats of surveys of the lands described below in the BLM Idaho State Office, Boise, Idaho, 30 days from the date of publication in the Federal Register.

The plat representing the dependent resurvey of portions of the subdivisional lines, and 1880 original meanders of Lower Twin Lake, and the survey of the 2004-2005 meanders of Lower Twin Lake, in T. 52 N., R. 4 W., Boise Meridian, Idaho, was accepted October 31, 2005.

The plat representing the dependent resurvey of portions of the south boundary, Guide Meridian (west boundary), subdivisional lines, and the 1880 original meanders of Spirit and Lower Twin Lakes, and the survey of the 2004-05 meanders of Spirit and Lower Twin Lakes, in T. 53 N., R. 4 W., Boise Meridian, Idaho, was accepted October 31, 2005.

Dated: October 31, 2005.
Stanley G. French,
Chief Cadastral Surveyor for Idaho.

[FR Doc. 05-22090 Filed 11-4-05; 8:45 am]

BILLING CODE 4310-GG-P